COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds service(s) to the Procurement List that will be furnished by nonprofit agencies employing persons who are blind or have other severe disabilities.

DATES: Dates added the Procurement List: March 1, 2021 and March 8, 2021, as prescribed below.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 10/23/2020, 11/6/2020 and 11/20/2020, the Committee for Purchase From People Who Are Blind or Severely Disabled published notice of proposed additions to the Procurement List. This notice is published pursuant to 41 U.S.C. 8503(a)(2) and 41 CFR 51-2.3.

After consideration of the material presented to it concerning capability of qualified nonprofit agencies to provide the service(s) and impact of the additions on the current or most recent contractors, the Committee has determined that the service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the service(s) to the Government.

2. The action will result in authorizing small entities to furnish the service(s) to the Government.

3. There are no known regulatory alternatives which would accomplish the objectives of the Javits-Wagner-O'Day Act (41 U.S.C. 8501-8506) in connection with the service(s) proposed for addition to the Procurement List.

End of Certification

Accordingly, the following service(s) are added to the Procurement List:

Service(s)

Service Type: Custodial Service.

Mandatory for: U.S. Air Force, Robins North Complex, Macon, GA.

Designated Source of Supply: Good Vocations, Inc., Macon, GA.

Contracting Activity: The Dept. of the Air Force, FA8571 AFSC PZIO MXW.

The Committee finds good cause to dispense with the 30-day delay in the effective date normally required by the Administrative Procedure Act. See 5 U.S.C. 553(d). This addition to the Committee's Procurement List is effectuated because of the expiration of the U.S. Air Force custodial service at Robins AFB North Complex, Macon, GA contract. The Federal customer contacted, and has worked diligently with the AbilityOne Program to fulfill this service need under the AbilityOne Program. To avoid performance disruption, and the possibility that the U.S. Air Force will refer its business elsewhere, this addition must be effective on March 1, 2021, ensuring timely execution for a March 1, 2021, start date while still allowing five (5) days for comment. The Committee also published a notice of proposed Procurement List addition in the Federal Register on October 23, 2020, and did not receive any comments from any interested persons, including from the incumbent contractor. This addition will not create a public hardship and has limited effect on the public at large, but, rather, will create new jobs for other affected parties—people with significant disabilities in the AbilityOne program who otherwise face challenges locating employment. Moreover, this addition will enable Federal customer operations to continue without interruption.

Service Type: Filter Maintenance Service.

Mandatory for: U.S. Navy, NAVFAC Mid Atlantic Division, Naval Station Great Lakes, IL.

Designated Source of Supply: Ada S. McKinley Community Services, Inc., Chicago, IL.

Contracting Activity: The Dept. of the Navy, Naval FAC Engineering CMD MID LANT.

The Committee finds good cause to dispense with the 30-day delay in the effective date normally required by the Administrative Procedure Act. See 5 U.S.C. 553(d). This addition to the Committee's Procurement List is effectuated because of the expiration of the U.S. Navy's Filter Maintenance, NAVFAC, Naval Station Great Lakes, IL contract. The Federal customer contacted, and has worked diligently with the AbilityOne Program to fulfill this service need under the AbilityOne Program. To avoid performance disruption, and the possibility that the U.S. Navy will refer its business elsewhere, this addition must be effective on March 1, 2021, ensuring timely execution for a March 1, 2021, start date while still allowing five (5) days for comment. Pursuant to its own regulation 41 CFR 51-2.4, the Committee has been in contact with one of the affected parties, the incumbent of the expiring contract, since March 2020 and determined that no severe adverse impact exists. The Committee also published a notice of proposed Procurement List addition in the Federal Register on November 6, 2020, and did not receive any comments from any interested persons, including from the incumbent contractor. This addition will not create a public hardship and has limited effect on the public at large, but, rather, will create new jobs for other affected parties—people with significant disabilities in the AbilityOne program who otherwise face challenges locating employment. Moreover, this addition will enable Federal customer operations to continue without interruption.

Service Type: Grounds Maintenance Service.

Mandatory for: U.S. Army, U.S. Army Communications-Electronics Command Headquarters, Aberdeen Proving Ground, MD.

Designated Source of Supply: Chimes District of Columbia, Baltimore, MD.

Contracting Activity: The Dept. of the Army, W6QK ACC-APG DIR.

The Committee finds good cause to dispense with the 30-day delay in the effective date normally required by the Administrative Procedure Act. See 5 U.S.C. 553(d). This addition to the Committee's Procurement List is effectuated because of the expiration of the U.S. Army's ground maintenance contract at the Communications-Electronics Command HQ, Aberdeen Proving Ground, MD. The Federal customer contacted, and has worked diligently with the AbilityOne Program to fulfill this service need under the AbilityOne Program. To avoid performance disruption, and the possibility that the U.S. Army will refer its business elsewhere, this addition must be effective on March 7, 2021, ensuring timely execution for a March 8, 2021, start date while still allowing 12 days for comment. Pursuant to its own regulation 41 CFR 51-2.4, the Committee that the incumbent of the expiring contract would not incur severe adverse impact, as the firm graduated from the Small Business Administration's 8(a) Program on October 14, 2019 and is not eligible therefore to bid on any solicitations set aside for 8(a) participants. The contracting activity indicated that if the project is not added to the AbilityOne Program, it would remain in the 8(a) Program. The Committee also published a notice of proposed Procurement List addition in the Federal Register on November 20, 2020, and did not receive any comments from any interested persons, including from the incumbent contractor. This addition will not create a public hardship and has limited effect on the public at large, but, rather, will create new jobs for other affected parties—people with significant disabilities in the AbilityOne program who otherwise face challenges locating employment. Moreover, this addition will enable Federal customer operations to continue without interruption.

Michael R. Jurkowski,
Deputy Director, Business & PL Operations.

[FR Doc. 2021-03791 Filed 2-23-21; 8:45 am]

BILLING CODE 6353-01-P